DEPARTMENT OF COMMERCE

International Trade Administration

University of Minnesota, et al., Notice of Consolidated Decision on Applications for Duty-Free Entry of Scientific Instruments

This is a decision consolidated pursuant to Section 6(c) of the Educational, Scientific, and Cultural Materials Importation Act of 1966 (Pub. L. 89-651, 80 Stat. 897; 15 CFR part 301). Related records can be viewed between 8:30 A.M. and 5 P.M. in Room 2104, U.S. Department of Commerce, 14th and Constitution Ave., NW., Washington, DC.

Comments: None received. Decisions: Approved. We know of no instrument of equivalent scientific value to the foreign instruments described below, for such purposes as each is intended to be used, was being manufactured in the United States at the time of its order.

Docket Number: 07-025. Applicant: University of Minnesota, Minneapolis, MN 55455. Instrument: Confocal Raman Microscope. Manufacturer: Witec, Germany. Intended Use: See notice at 72 FR 33204, June 15, 20007. Reasons: The foreign instrument provides capability for distinguishing polymorphs in organic crystalline films, identifying components in polymer blends at the micron level, distinguishing components in complex biofilms, characterizing the surface composition of coated aerosol particles, etc. Precise mapping control through a piezo scan table, as well as high resolution and adaptation to different wavelengths of the laser are essential features.

Docket Number: 07-034. Applicant: Purdue University, West Lafayette, IN 47907-2054. Instrument: Electron Microscope. Manufacturer: FEI Company, The Netherlands. Intended Use: See notice at 72 FR 33204, June 15 2007. Reasons: The foreign instrument provides capability of high voltage electron microscopy.

Docket Number: 07-035. Applicant: Old Dominion University, Norfolk, VA 23529. Instrument: Electron Microscope. Manufacturer: JEOL, Ltd., Japan Intended Use: See notice at 72 FR 33204. Reasons: The foreign instrument provides capability of high voltage electron microscopy.

The capabilities of each of the foreign instruments described above are pertinent to each applicant's intended purposes and we know of no other instrument or apparatus being manufactured in the United States which is of equivalent scientific value to any of the foreign instruments.

Faye Robinson,
Director,Statutory Import Programs Staff, Import Administration.

[FR Doc. E7-13477 Filed 7-10-07; 8:45 am]

BILLING CODE 3510-DS-S